ENVIRONMENTAL PROTECTION AGENCY

[FRL-9631-5]

Proposed CERCLA Administrative Cost Recovery Settlement; Lake Linden Superfund Site in Lake Linden, Houghton County, MI

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement for recovery of past response costs concerning the Lake Linden Superfund Site in Lake Linden, Houghton County, Michigan with Honeywell Specialty Materials, LLC. The settlement requires the settling party to pay $357,149.47 to the Hazardous Substance Superfund. The settlement includes a covenant not to sue the settling party pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the U.S. EPA Records Center, Room 714, 77 W. Jackson Boulevard, Chicago, IL 60604.

DATES: Comments must be submitted on or before 30 days from date of publication.

ADDRESSES: The proposed settlement is available for public inspection at the U.S. EPA Records Center, Room 714, 77 W. Jackson Boulevard, Chicago, IL 60604. A copy of the proposed settlement may be obtained from Larry Johnson, U.S. Environmental Protection Agency, Office of Regional Counsel, 77 W. Jackson Boulevard, Chicago, Illinois, C-14J, 60604, (312) 886-6609. Comments should reference the Lake Linden Superfund Site in Lake Linden, Houghton County, Michigan and EPA Docket No. V-W-11-C-988 and should be addressed to LaDawn Whitehead, U.S. Environmental Protection Agency, Office of Enforcement and Compliance and Assurance, 77 W. Jackson Boulevard, Chicago, Illinois, E-19J, 60604, (312) 886-3713.

FOR FURTHER INFORMATION CONTACT: Larry Johnson, U.S. Environmental Protection Agency, Office of Regional Counsel, C-14J, 77 W. Jackson Boulevard, Chicago, Illinois, 60604, (312) 886-6609.

Dated: February 2, 2012.
Richard C. Karl,
Director, Superfund Division, Region 5, United States Environmental Protection Agency.

Spill ID Number B5 KY

[FR Doc. 2012-3789 Filed 2-16-12; 8:45 am]

BILLING CODE 6560-50-P